DEPARTMENT OF HOUSING AND URBAN DEVELOPMENT

[Docket No. FR-4931-N-01]

Notice of Funding Availability for the Section 202 Demonstration Planning Grant Program

AGENCY: Office of the Assistant Secretary for Housing—Federal Housing Commissioner, HUD.

ACTION: Notice of Funding Availability.

Overview Information

A. Federal Agency Name: Department of Housing and Urban Development, Office of Housing.

B. Funding Opportunity Title: Section 202 Demonstration Planning Grant Program.

C. Announcement Type: Initial announcement.

D. Funding Opportunity Number: The OMB approval number for this NOFA is 2502-0267. The Federal Register number is FR-4931-N-01.

E. Catalog of Federal Domestic Assistance (CFDA) Number(s): 14.157, Section 202 Demonstration Planning Grant Program

F. Dates: Application Deadline Date: January 10, 2005.

An original and 2 copies of a completed application package is due to the appropriate local HUD Office on or before January 10, 2005. See Appendix 1 for a complete listing of the Multifamily Hub Offices and Multifamily Program Centers.

G. Additional Overview Content Information: Private nonprofit organizations and nonprofit consumer cooperatives interested in applying for funding under this program should carefully review the General Section of FY 2004 SuperNOFA (69 FR-26942, May 14, 2004), the Section 202 Program NOFA (69 FR-22709, May 14, 2004), and the information detailed in this program NOFA. Also see the Correction document (69 FR-34878, June 22, 2004).

Full Text of Announcement

I. Funding Opportunity Description

A. Program Description

The purpose of this Demonstration Planning Grant Program is to assist Sponsors of projects that receive Fund Reservation Awards pursuant to the FY 2004 SuperNOFA for the Section 202 Supportive Housing for the Elderly Program by providing predevelopment grant funding for architectural and engineering work, site control, and other planning related expenses that are eligible for funding under the Section 202 Supportive Housing for the Elderly Program. Subsequent to providing predevelopment grant funding to the selected applicants, this Demonstration Planning Grant will assess the impact of the availability of such funding on the ability of project Sponsors to expedite the development processing of projects from Section 202 Fund Reservation to Initial Closing within 18 months.

The Department is aware of the complexities of developing Section 202 projects and understands that a lack of predevelopment funding may be a contributing factor in many instances where project Sponsors are not able to move their approved projects from Fund Reservation award to Initial Closing within the required 18-month time frame. Funding under this program is not intended to supplement Section 202 Capital Advance funding, but rather to provide a source of funding for predevelopment costs that would otherwise not be reimbursable until Initial Closing or would be payable from eligible funding resources secured outside of Section 202 Capital Advance funding.

B. Authority

The Section 202 Demonstration Planning Program is authorized by the Consolidated Appropriations Resolution, 2003 (Pub. L. 108-7, approved February 20, 2003), and the Consolidated Appropriations Resolution, 2004 (Pub. L. 108-199, approved January 23, 2004)

II. Award Information

A. Funding Available

This NOFA makes available approximately $44,719,500 for predevelopment grants to private nonprofit organizations and consumer cooperatives in connection with the development of housing under the Section 202 Supportive Housing for the Elderly Program. The total dollar amount that is available under this Demonstration Planning Grant Program includes approximately $24,837,500 that was provided in the Consolidated Appropriations Resolution, 2003 (Pub. L. 108-7; approved February 20, 2003), and approximately $19,882,000 million that was provided in the Consolidated Appropriations Resolution, 2004 (Pub. L. 108-199; approved January 23, 2004).

B. Funding Process

HUD will only make offers to fully fund as many applications as possible from the $44,719,500 allocated for Sponsors that receive Section 202 Fund Reservations pursuant to the FY 2004 SuperNOFA process. All applicants selected for funding under the FY 2004 Section 202 Supportive Housing for the Elderly NOFA are not guaranteed funding under this Demonstration Program.

C. Maximum Grant Award

The maximum grant amount per single application is $400,000 however, no more than $800,000 may be awarded to a single entity or its affiliated organizations. The amount of funding requested must be within the maximum grant award amounts.

D. Reduction of Requested Grant Amount

HUD may make an award in an amount less than requested, if:

1. HUD determines that any of the proposed predevelopment activities are ineligible for funding under the Section 202 Supportive Housing for the Elderly Program;

2. HUD determines that an eligible applicant has not been able to provide sufficient evidence to support the proposed cost of an eligible predevelopment item or activity; and/or

3. HUD determines that a reduced grant would prevent duplicative Federal funding.

4. HUD determines that proposed costs for predevelopment activities are not based on comparable costs for eligible items and activities in the applicant's community. HUD Field Office staff will review proposed costs in accordance with customary and reasonable costs for such items within the geographical jurisdiction of the respective Multifamily Hub and/or Multifamily Program Center Office. If requested by the Department, eligible applicants must provide supportable evidence of comparable costs for proposed activities.

E. Term of Funded Activities

The grant term is 2 years. Funds not expended by the end of the grant term are subject to recapture and/or repayment if expended on ineligible activities.

III. Eligibility Information

A. Eligible Applicants

All private nonprofit organizations and nonprofit consumer cooperatives that submitted an application for funding consideration under the FY 2004 SuperNOFA for the Section 202 Supportive Housing for the Elderly Program are eligible to apply for funding under this Demonstration Planning Grant Program. (Please refer to the Overview Information, Section G(4), of the Section 202 Program NOFA for a discussion on the eligibility criteria for the Section 202 program). However, funding awards under this Section 202 Demonstration Planning Grant Program will be restricted to those applicants that are selected for Fund Reservation Awards under the FY 2004 SuperNOFA for the Section 202 Supportive Housing for the Elderly Program. Funding under this Program will not be fair shared to each HUD office.

1. Ineligible Applicants:

a. Applicants that failed to submit a request for Fund Reservation under FY2004 Section 202 Program NOFA.

b. Applications from eligible applicants that do not receive a Fund Reservation Award under the FY 2004 SuperNOFA for the Section 202 Program will not be considered for funding under this Demonstration Planning Program.

c. Applications from applicants that are ineligible under the Section 202 program including public bodies and instruments of public bodies.

d. Applicants submitting proposals involving mixed-financing for additional units are not eligible to be considered for predevelopment funding under this NOFA.

B. Cost Sharing or Matching

No match required.

C. Other

1. Requirement and Procedures. To receive and administer funding under this Demonstration Program, applicants must fully satisfy the eligibility requirements for participation in the Section 202 Supportive Housing for the Elderly Program as well as comply with the following requirements:

a. Statutory and Regulatory Requirements. You must comply with all statutory, regulatory, threshold, and public policy requirements listed in the Section III (C) of the General Section of FY 2004 SuperNOFA, published on May 14, 2004.

b. Allowable Use of Funds. Grant funds may be used to cover the costs of architectural and engineering work, and other eligible planning activities relating to the development of supportive housing for the elderly under the Section 202 program. Grantees may use the funding provided under this Demonstration Program to extend options to purchase or to lease sites, and enter into contracts with qualified third party individuals, companies, or firms to provide professional services for eligible predevelopment activities related to the development of an elderly housing project that was selected for funding under the FY 2004 Section 202 NOFA. Grantees may not use funds for land acquisition, leasing, new construction, or property rehabilitation, alteration, demolition, or disposition. HUD approval must be granted before a grantee can enter into a contract for professional services with any entity requiring HUD 2530 clearance. Such entities include, but are not limited to, housing consultants (including those instances where eligible Sponsors proposed to provide such services), general contractors, and management agents.

c. Organizational Costs. Eligible organizational expenses and/or costs are limited to those incurred in connection with the organization of an Owner entity pursuant to the requirements of the Section 202 Supportive Housing for the Elderly Program.

d. Site Control. Applicants are required to provide evidence of site control, consistent with the requirements of the Section 202 program, as a condition to being funded under the FY 2004 Section 202 NOFA. Applicants who receive funding awards under this NOFA may utilize this funding to extend site control in accordance with the site control requirements under the Section 202 Supportive Housing for the Elderly Program. See Section III(C)(2)(b)(3)(a) of the Section 202 Program NOFA.

e. Phase I and Phase II Environmental Site Assessments (ESA). The requirements for Phase I and II ESAs are the same as those that apply to the Section 202 Supportive Housing for the Elderly Program and are contained in Section III(C)(2)(b)(3)(c)(i) and (ii) of the Section 202 Program NOFA.

f. False Statements. See Section III(C)(2)(h) of the General Section of the FY 2004 SuperNOFA.

2. Program Related Threshold Requirements. In addition to the threshold requirements in Section III(C)(2) of the General Section, applicants must adhere to all program specific threshold requirements as detailed in this NOFA. HUD will consider an application non-responsive to this NOFA and will not accept it for processing if the applicant:

a. is determined to be ineligible. Please refer to Section III(A)(1) of this NOFA for a more detailed discussion on ineligible applicants;

b. requested more than the maximum grant amount;

c. failed to submit the threshold requirements as identified by the asterisk (*) in Section IV (B) of this program NOFA by the deadline date; or

d. did not submit a request for Fund Reservation under the Section 202 FY2004 NOFA.

IV. Application and Submission Information

A. Addresses To Request Application Package

All information needed for the preparation and submission of this application is included in this Program NOFA and the General Section of the FY 2004 SuperNOFA. An electronic copy of such information is also available on the Web at http://www.grants.gov/Find. Paper copies of all documents related to this NOFA can be obtained from the NOFA Information Center by calling 1-800-HUD-8929 or for the hearing impaired at 1-800-HUD-2209. See Section IV(A)(1) of the General Section of the FY 2004 SuperNOFA for additional information.

1. Guidebook and Further Information. Please refer to Section IV(A)( 2) of the General Section of the FY 2004 SuperNOFA for information on the guidebook to HUD programs, titled “Connecting with Communities: A User's Guide to HUD Programs and the 2004 NOFA Process”.

2. Technical Assistance. Before the application due date, HUD staff will be available to provide you with general guidance and technical assistance as it relates to this program. Please note that HUD staff is not permitted to assist you in preparing your application or to provide comments on your application.

B. Content and Form of Application Submission

Applicants may submit more than one application to a single Field Office. However, no more than one application may be submitted per project. All applicable documents must have an original signature. Each application must propose a separate project and the proposed development must be located within the jurisdiction of the appropriate Field Office. To be eligible for review, all applications must contain the required exhibits that include the pertinent forms and narrative discussions. Threshold items are identified by an asterisk (*). Failure to include threshold items in your initial application submission will render your application non-responsive and that application will not be considered for funding by HUD. Applications must contain the required exhibits as listed below:

1. Cover Letter.

2. * Narrative Demonstrating Need for Predevelopment Funding: A brief narrative describing the financial circumstances that resulted in your need to apply for funding assistance with predevelopment activities, how the lack of such assistance has impacted the organization's previous or current development efforts, and how access to predevelopment funding will assist the applicant in moving its FY 2004 Section 202 elderly housing project to Initial Closing within 18 months of Fund Reservation approval.

3. * Proposed Predevelopment Activities and Budget: This exhibit requires applicants to submit Form HUD-424-CB, Grant Applications Detailed Budget. The form identifies the applicant's cost of the proposed program activities. To supplement this form, applicants should include a narrative detailing a budget listing of each eligible predevelopment planning activity being proposed by the applicant, the anticipated cost for each activity, the expected results for each activity, and the total amount of predevelopment funding assistance being requested in the application. No predevelopment grant funds may be expended with participants who do not have HUD 2530 clearance.

4. * Project Development Schedule: This Exhibit should include a detailed development schedule which identifies the predevelopment activities being proposed, their projected start and completion dates, the projected completion date for all predevelopment planning activities, and a brief narrative describing the applicant's plan for monitoring this schedule of activities and addressing delays should they occur. All projected development schedules must (1) demonstrate the applicant's ability to move its approved FY 2004 Section 202 elderly housing project from Fund Reservation to an Initial Closing within 18 months of grant approval and (2) provide a statement addressing how a predevelopment grant will insure that the schedule is met. The completion of the Logic Model (form HUD 96010), under the FY 2004 Section 202 NOFA will assist you in responding to this Exhibit.

5. Acknowledgment of Application Receipt (HUD-2993).

6. Client Comments and Suggestions (HUD-2994).

If changes have been made to any of the forms that were submitted under the FY 2004 Section 202 NOFA, the Department requires that the updated form(s) be resubmitted under this Demonstration Planning Grant NOFA.

C. Submission Dates and Times

An original and two (2) copies of your completed application are due to the appropriate HUD Field Office on or before January 10, 2005. See Appendix 1 of this program NOFA for a complete listing of the Multifamily Hub Offices and Multifamily Program Centers. For Mailing and Receipt Procedures, Proof of Timely Submission, and other specific procedures governing the submission of applications to HUD Field Offices, see Section IV E of this program NOFA and also Section IV of the General Section of the FY 2004 SuperNOFA.

D. Funding Restrictions

1. Eligible Activities. Section 202 Demonstration Planning Grant Program funds must be used exclusively to facilitate planning design and predevelopment activities for projects funded under the FY 2004 SuperNOFA for the Section 202 Supportive Housing for the Elderly Program. Such activities include architectural and engineering work, site control, and other planning activities related to the development of a multifamily housing project funded under the FY 2004 Section 202 Supportive Housing for the Elderly Program. Grantees may not use funds for land acquisition, leasing, new construction, or property rehabilitation, alteration, demolition, or disposition.

a. All expenses related to eligible activities must be limited to those actual costs that are incurred prior to initial closing and be otherwise eligible activities under the Section 202 Program. Activities that are eligible for funding include the following:

(1) Appraisals. The applicant's cost for obtaining an appraisal to establish the fair market value of the proposed site completed by a qualified and licensed appraiser.

(2) Architect Services. The design fees charged by licensed architectural/engineering firms for construction of the applicant's project.

(3) Engineering Services. Actual cost of boundary survey, topographic survey, soil borings and tests.

(4) Environmental Site Assessment. Actual cost incurred for the environmental site assessment, i.e., Phase I and Phase II.

(5) Consultant Services. Up to 20 percent of the total amount of the contract between the applicant and their consultant for services related to the development and submission of an approvable Section 202 Fund Reservation Application.

(6) Cost Analysis. The cost of the contract between the applicant and a professional with experience in cost estimation, for an independent cost estimate needed to determine the viability of a proposed project as required for Firm commitment processing under the Section 202 program.

(7) Legal Fees. The cost for legal services and title binder fees.

(8) Site Control. The applicant's cost for extending the time for site control of the original site including option costs necessary to extend option agreement up to the 18-months closing target date. The proceeds of this grant may not be used for site acquisition.

(9) Market Studies. The applicant's cost for a study completed by a qualified, independent, third party, market research firm for purposes of examining the need for and verifying the marketability of the proposed project.

(10) Organizational Expenses. The actual cost related to the creation of an Owner entity for the proposed project pursuant to Section 202 Program regulations.

2. Ineligible Activities:

All proposed activities that are determined to be ineligible will not be funded from the Demonstration Planning Grant funds.

a. Section 202 Demonstration Planning Grant Program funds may not be used to acquire sites or other real property, to fund organizational overhead and/or operating expenses, staff salaries, or any planning activity that is otherwise ineligible for assistance under the Section 202 Supportive Housing for the Elderly Program.

b. Funding under this NOFA may not be used to meet Minimum Capital Investment (MCI) requirements for the Section 202 Program.

In the event that funding awarded under this Program is utilized for activities or purposes that have not been approved by HUD, the Department will seek repayment.

3. Applicants submitting proposals involving mixed-financing for additional units are not eligible to be considered for predevelopment funding under this NOFA.

E. Other Submission Requirements

1. Delivery and Receipt Procedures. The following procedures apply to the delivery and receipt of applications in HUD Headquarters and field offices. Please read the following instructions carefully and completely, as failure to comply with these procedures may disqualify your application. HUD's delivery and receipt policies are:

a. Hand deliveries will be permitted. Hand delivered packages to the HUD Field Offices must be received no later than 4 p.m. local time for the office receiving the application. However, if HUD staff is not available to accept your package or the courier service is not allowed to enter the building to deliver the package due to security or other reasons, the package will be determined not delivered and not accepted by HUD. In such instances, HUD recommends that, you, the applicant, or your agent take your package to the nearest post office and follow the mailing instructions for postal service timely delivery.

b. HUD will not take responsibility for ensuring that staff is available to take your package and will not breach security measures in order to accept an undeliverable package.

c. HUD will not accept or consider any applications sent by facsimile.

d. Packages may be mailed using the United States Postal Service. Mailed applications will be accepted as being timely submitted if they are received at the designated HUD location (including the room number specified for receipt) not later than 15 days after the due date and time, and show a postmark of having been delivered to the postal facility for mailing by 12 midnight local time on the application due date. If the Postal Service does not normally postmark large packages, the proof of timely submission shall be receipt within 15 days at the designated HUD facility and, upon request by a HUD official, proof of mailing using USPS Form 3817 (Certificate of Mailing) or a receipt from the Postal Service which contains the post office name, location, and date and time of mailing. For submission through the United States Postal Service, no other proof of timely submission will be accepted.

e. Applications mailed to a location or office that is not designated for receipt of the application, which results in the designated office not receiving your application in accordance with the requirements for timely submission, will cause your application to be considered late and ineligible to receive funding consideration. HUD will not be responsible for directing packages to the appropriate office.

Applicants should pay close attention to these submission and timely receipt instructions as they can make a difference in whether HUD will accept your application for funding consideration. Please remember that mail sent to federal facilities is screened prior to delivery, so please allow sufficient time for your package to be delivered. If an application is received late because of the processing time required for the screening, it will not be considered for funding.

2. Proof of Timely Submission. Proof of timely submission of an application is specified below.

a. In the case of packages sent to HUD via a delivery service, other than the United States Postal Service, timely submission shall be evidenced via a delivery service receipt indicating that the application was delivered to a carrier service at least 24 hours prior to the application deadline, and, if applicable, that through no fault of the applicant, the delivery could not be made on or before the application due date. Couriers turned away from a HUD facility due to security issues will not be considered as meeting the requirement of “no fault of the applicant,” because applicants have been advised that delivery delays can arise when using courier services, resulting in a late application submission.

b. For packages submitted via the United States Postal Service, proof of timely submission shall be a postmark not later than the application due date and receipt not later than 15 days after the application due date at the designated HUD facility and, upon request by a HUD official, proof of mailing using USPS Form 3817 (Certificate of Mailing) or a receipt from the Post Office which contains the post office name, location, and date and time of mailing. For submission through the United States Postal Service, no other proof of timely submission will be accepted. Applications not meeting the timely submission requirements will not be considered for funding.

3. Address for Submitting Applications. You should not submit any copies of your application to HUD Headquarters. All applications must be sent to the appropriate local HUD Office. It is strongly recommended that you submit your application by mail via United States Postal Service. Please refer to the Section IV(F)(1) of the General Section of the FY 2004 SuperNOFA as well as Section IV(E) of this program NOFA for detailed instructions regarding delivery and receipt procedures. Applications for this program cannot be made electronically and can only be made through the local HUD office. You must submit an original and two (2) copies of your completed application to the Director of the appropriate Multifamily Hub Office or Multifamily Program Center, as listed in Appendix 1 of this program NOFA, with the following exceptions:

a. Applications for projects proposed to be located within the jurisdiction of the Sacramento, California Office must be submitted to the San Francisco, California Office.

b. Applications for projects proposed to be located within the jurisdiction of the Cincinnati, Ohio Office must be submitted to the Columbus, Ohio Office.

c. Applications for projects proposed to be located within the jurisdiction of the Washington, DC Office must be submitted to the Baltimore, Maryland Office.

d. Applications for projects proposed to be located within the jurisdiction of the Grand Rapids, Michigan Office must be submitted to the Detroit, Michigan Office. Appendix 1 also includes the telephone numbers and TTY (text telephone) numbers for the Multifamily Hubs and Program Centers. This information is also available from HUD's NOFA Information Center at 1-800-HUD-8929 and from the Internet through the HUD web site at http://www.hud.gov/grants. Persons with hearing or speech impairments may call the Center's TTY number at 1-800-HUD-2209.

V. Application Review Information

A. Criteria

HUD Headquarters will select applications for Demonstration Planning Grant funding through a rating process. HUD will award funding under this process until all available funding has been exhausted.

B. Review and Selection Process

1. HUD's application review process will include, but is not limited to, an eligibility review of each predevelopment planning activity being proposed by the applicant, the reasonableness of the proposed cost for each activity, the reasonableness of the applicant's proposed budget, and the ability of project Sponsors to expedite the development processing of projects from Section 202 Fund Reservation to Initial Closing within the 18-month timeframe. All activities must be related to the development of the Section 202 housing project selected under the FY 2004 Section 202 Supportive Housing for the Elderly Program and be otherwise eligible activities under the Section 202 Program.

2. Review for Curable Deficiencies. You should ensure that your application is complete and that you have an original and two (2) copies before submitting it to the appropriate HUD Office. HUD will screen all applications received by the application submission deadline for threshold items and curable deficiencies. A curable deficiency is a missing Exhibit or portion of an Exhibit that will not affect the eligibility of the applicant. The HUD Office will notify you in writing if your application is missing any of the exhibits or portions of exhibits, as listed in Section IV(B) of this NOFA and you will be given fourteen (14) calendar days from the date of the HUD written notification to submit the information required to cure the noted deficiencies. In addition to the threshold requirements in Section III(C)(2) of the General Section of the FY 2004 SuperNOFA, the items identified by an asterisk (*), as listed in Section IV(B) and in Section III(C)(2) of this NOFA, are also threshold requirements and must be dated on or before the application deadline date. Failure to satisfy all threshold requirements, at the time of submission, will render the application in question as being non-responsive to this NOFA and subject to no further review.

HUD will not reject your application based on technical review without notifying you of that rejection, the reason(s) for the rejection, and providing you an opportunity to appeal. You will have fourteen (14) calendar days, from the date of HUD's written notice, to appeal a technical rejection to the HUD Office. The HUD Office will make a determination on an appeal before making its selection of projects to be forwarded to HUD HQ as outlined in the section below. See Section (B)(4) of the General Section for additional procedures for corrections to deficient applications.

3. Eligibility Review. Threshold items are identified in Section III(C)(2) of the General Section of the FY 2004 SuperNOFA and in Section IV(B) and Section III(C)(2) of this program NOFA. Failure to meet any threshold item will render an application ineligible for funding consideration. HUD Multifamily Field Office staff will review applications for completeness and compliance with the eligibility criteria set forth in this NOFA. Field Office staff will forward to Headquarters a listing of eligible applications that were received by the deadline date, meet all eligibility criteria, propose reasonable costs for eligible activities, and include all technical corrections by the designated deadline date. From that listing, only those applications for projects that received a FY 2004 Section 202 Fund Reservation award will be considered for funding under this Demonstration Planning Grant NOFA.

4. HUD Headquarters will select Section 202 Demonstration Planning Grant applications based on HUD Multifamily Program Centers' rating of the respective FY 2004 Section 202 application, beginning with the highest rated application nationwide. After this selection, HUD Headquarters will select the next highest rated application in another Program Center. Only one application will be selected per Multifamily Program Center. However, if there are no approvable applications in other Multifamily Program Centers, the process will begin again with the selection of the next highest rated application nationwide. More than one application may be selected per HUD Multifamily Program Centers if there are no other approvable applications.

This process will continue until all approvable applications are selected using the available remaining funds. HUD Headquarters will fully fund as many applications as allocated funds will allow. HUD Headquarters will review its selection results to ensure that no single entity (including affiliated entities) receives grant funding in excess of $800,000. Once an organization receives its maximum amount of grant funding, no other projects from that organization will be eligible for selection from the succeeding drawings. If there is a tie score between two or more applications, HUD will select the applicant with the highest score in Rating Factor 1 of the FY 2004 Section 202 application. If Rating Factor 1 is scored identically, the score in Rating Factor 2, 3, and 4, of the FY 2004 Section 202 application, will be compared in that order, until one of the applications received a higher score. If both applications still score the same, then the application which request the least funding will be selected.

5. Adjustments to Funding.

a. Reduction of Requested Grant Amount. See Section II (D) of this program NOFA.

VI. Award Administration Information

A. Award Notices

Following the Congressional Notification process, HUD will issue a press release announcing the selection of awards. Once such an announcement has been made, successful applicants will receive their selection letters and grant agreement via postal or overnight mail. The grant agreement is the legally binding document that establishes a relationship between HUD and the award recipient organization. Once properly executed, it authorizes the obligation and disbursement of funds.

1. As a condition of receiving a grant under this Demonstration Planning Program, Grantees must open a separate, non-interest bearing account, for the receipt and handling of these funds.

2. All applicants that were not selected for funding will receive a non-selection letter.

3. You may request a debriefing on your application in accordance with the General Section of the FY 2004 SuperNOFA, with the exception that the request must be made to the Director of Multifamily Housing in the HUD Field Office to which you sent your application.

B. Administrative and National Policy Requirements

Expiration of Section 202 Funds. The FY 2003 and FY 2004 Consolidated Appropriations require HUD to obligate all Section 202 Demonstration Planning Grant funding appropriated for the respective fiscal years by September 30, 2006. Under 31 U.S.C. Section 1551, no funds can be disbursed from the account after September 30, 2011. Under this Demonstration Program, obligation of funds occurs upon execution of the Grant Agreement.

C. Reporting

Grantees must submit quarterly program performance and financial status reports to their respective Multifamily Hub or Program Center Office. Such reports include a narrative on the progress of each eligible activity undertaken, a narrative on problems encountered to date and how such problems may impact the grantee's proposed predevelopment or development timeframe, a narrative on the grantee's plan of corrective action to ensure that its project will be under construction within 24 months of grant approval or less, a listing of the professional firms contracted with, dollar amounts contracted for and services provided to date, a budget summary identifying funding expended to date for eligible activities versus the total grant awarded, and a certification on whether or not the proposed project continues to be viable as of the date of the report.

The project owner is still required to report on their performance based on the Logic Model (form HUD 96010), submitted under the FY04 Section 202 NOFA.

D. Environmental Requirements. The provision of assistance under this NOFA is categorically excluded from environmental review under the National Environmental Policy Act of 1969 (42 U.S.C. 4321) and not subject to compliance action for related environmental authorities under 24 CFR 50.19(b)(1), (3), (8) and (16).

E. This NOFA does not direct, provide for assistance or loan and mortgage insurance for, or otherwise govern or regulate, real property acquisition, disposition, leasing, rehabilitation, alteration, demolition, or new construction, or establish, revise or provide for standards for construction or construction materials, manufactured housing, or occupancy. Accordingly, under 24 CFR 50.19(c)(1), this NOFA is categorically excluded from environmental review under the National Environmental Policy Act of 1969 (42 U.S.C. 4321).

VII. Agency Contacts

A. For further Information and Technical Assistance you may contact the appropriate Multifamily Hub Office or Multifamily Program Center, or Alicia Anderson at HUD Headquarters at (202) 708-3000, or access the Internet at http://www.hud.gov/grants. Persons with hearing and speech impairments may access the above number via TTY by calling the toll-free Federal Relay Service at 1-800-877-8339.

B. Satellite Broadcast

HUD will hold an information broadcast via satellite for potential applicants to learn more about the program and preparation of the application. The broadcast will be viewable at your local HUD Office. HUD strongly encourages minority organizations and grassroots faith-based and other community-based organizations especially those who may be applying for Section 202 funding to tune into this broadcast, if at all possible. Copies of the broadcast tapes will also be available from the NOFA Information Center. For more information about the date and time of the broadcast, you should consult the HUD Web site at http://www.hud.gov/grants.

VIII. Other Information

A. Section 102 of the HUD Reform Act, Documentation and Public Access Requirements

Section 102 of the Department of Housing and Urban Development Reform Act of 1989 (42 U.S.C. 3545) (HUD Reform Act) and the regulations codified at 24 CFR part 4, subpart A, contain a number of provisions that are designed to ensure greater accountability and integrity in the provision of certain types of assistance administered by HUD. On January 14, 1992, HUD published a notice that also provides information on the implementation of Section 102 (57 FR 1942). The documentation, public access, and disclosure requirements of Section 102 apply to assistance awarded under this NOFA as follows:

1. Documentation. HUD will ensure that documentation and other information regarding each application submitted pursuant to this NOFA are sufficient to indicate the basis upon which assistance was provided or denied. This material, including any letters of support, will be made available for public inspection for a five-year period beginning not less than 30 days after the award of the assistance. Material will be made available in accordance with the Freedom of Information Act (5 U.S.C. 552) and HUD's implementing regulations (24 CFR part 15).

2. Debriefing. For a period of at least 120 days, beginning 30 days after the awards for assistance are publicly announced, HUD will provide a debriefing to a requesting applicant a debriefing related to its application. All debriefing requests must be made in writing or by email by the authorized official whose signature appears on the SF-424 or his or her successor in office, and submitted to the person or organization identified as the Contact under the section entitled “Agency Contact.” Information provided during a debriefing will include, at a minimum, the final score the applicant received for each rating factor, final evaluator comments for each rating factor, and the final assessment indicating the basis upon which assistance was provided or denied.

3. Disclosures. HUD will make available to the public for five years all applicant disclosure reports (HUD Form 2880) submitted in connection with this NOFA. Update reports (also reported on HUD Form 2880) will be made available along with the applicant disclosure reports, but in no case for a period of less than three years. All reports, both applicant disclosures and updates, will be made available in accordance with the Freedom of Information Act (5 U.S.C. 552) and HUD's implementing regulations (24 CFR part 15).

4. Publication of Recipients of HUD Funding. HUD will publish a notice in the Federal Register to notify the public of all decisions made by the Department to provide:

a. Assistance subject to Section 102(a) of the HUD Reform Act; and

b. Assistance provided through grants or cooperative agreements on a discretionary (non-formula, non-demand) basis, but that is not provided on the basis of a competition.

B. Section 103 of the HUD Reform Act

HUD's regulations implementing Section 103 of the Department of Housing and Urban Development Reform Act of 1989 (42 U.S.C. 3537a), codified at 24 CFR part 4, subpart B, apply to this funding competition. The regulations continue to apply until the announcement of the selection of successful applicants. HUD employees involved in the review of applications and in the making of funding decisions are limited by the regulations in providing advance information to any person (other than an authorized employee of HUD) concerning funding decisions or from otherwise giving any applicant an unfair competitive advantage. Persons who apply for assistance in this competition should confine their inquiries to the subject areas permitted under 24 CFR part 4.

Applicants or employees who have ethics-related questions should contact the HUD Ethics Law Division at (202) 708-3815. (This is not a toll-free number.) HUD employees who have specific program questions should contact the appropriate field office counsel or Headquarters counsel for the program to which the question pertains.

C. Paperwork Reduction Act Statement

The information collection requirements contained in this document have been approved by the Office of Management and Budget (OMB) under the Paperwork Reduction Act of 1995 (44 U.S.C. 3501-3520) and assigned OMB control number 2502-0267. In accordance with the Paperwork Reduction Act, HUD may not conduct or sponsor, and a person is not required to respond to, a collection of information unless the collection displays a currently valid OMB control number. Public reporting burden for the collection of information is estimated to average 4 hours per annum per respondent for the application and grant administration. This includes the time for collecting, reviewing, and reporting the data for the application, semi-annual reports and final report. The information will be used for grantee selection and monitoring the administration of funds. Response to this request for information is required in order to receive the benefits to be derived.

Dated: November 19, 2004.
John C. Weicher,
Assistant Secretary for Housing—Federal Housing Commissioner.

HUD Field Office Addresses for Submitting Applications

A. Your application must be sent to the appropriate local HUD Office having jurisdiction over the locality in which your project will be located. If you send your application to the wrong local HUD Office, it will be rejected. Therefore, if you are uncertain as to which local HUD Office to submit your application, you are encouraged to contact the local HUD Office below that is closest to your proposed project location(s) to ascertain the Office's jurisdiction and ensure that you submit your application to the correct local HUD Office.

1. Applications for projects proposed to be located within the jurisdiction of the Sacramento, California Office must be submitted to the San Francisco, California Office.

2. Applications for projects proposed to be located within the jurisdiction of the Cincinnati, Ohio Office must be submitted to the Columbus, Ohio Office.

3. Applications for projects proposed to be located within the jurisdiction of the Washington, DC Office must be submitted to the Baltimore, Maryland Office.

4. Applications for projects proposed to be located within the jurisdiction of the Grand Rapids, Michigan Office must be submitted to the Detroit, Michigan Office.

HUD—Boston Hub

Hartford Office

One Corporate Center, 19th Floor, Hartford, CT 06103-3220, (860) 240-4800, TTY Number: (860) 240-4665

Boston Office

Room 301, Thomas P. O'Neill, Jr., Federal Building, 10 Causeway Street, Boston, MA 02222-1092, (617) 994-8500, TTY Number: (617) 565-5453

Manchester Office

1000 Elm Street, 8th Floor, Manchester, NH 03101-1730, (603) 666-7510, TTY Number: (603) 666-7518

Providence Office

Sixth Floor, 10 Weybosset Street, Providence, RI 02903-2808, (401) 528-5230, TTY Number: (401) 528-5403

HUD—New York Hub

New York Office

26 Federal Plaza, Room 3200, New York, NY 10278-0068, (212) 264-8000, TTY Number: (212) 264-0927

HUD—Buffalo Hub

Buffalo Office

Lafayette Court Building, 465 Main Street, 2nd Floor, Buffalo, NY 14203-1780, (716) 551-5755, ext. 5000, TTY Number: (716) 551-5787

HUD—Philadelphia Hub

Philadelphia Office

The Wanamaker Building, 100 Penn Square East, Philadelphia, PA 19107-3380, (215) 656-0609, TTY Number: (215) 656-3452

Charleston Office

Suite 708, 405 Capitol Street, Charleston, WV 25301-1795, (304) 347-7000, TTY Number: (304) 347-5332

Newark Office

Thirteenth Floor, One Newark Center, 1085 Raymond Boulevard, Newark, NJ 07102-5260, (973) 622-7900, TTY Number: (973) 645-3298

Pittsburgh Office

339 Sixth Avenue, Sixth Floor, Pittsburgh, PA 15222-2507, (412) 644-6428, TTY Number: (412) 644-5747

HUD—Baltimore Hub

Baltimore Office

Fifth Floor, City Crescent Building, 10 South Howard Street, Baltimore, MD 21201-2505, (410) 962-2520, TTY Number: (410) 962-0106

Richmond Office

600 East Broad Street, 3rd Floor, Richmond, VA 23219, (804) 771-2100, TTY Number: (804) 771-2038

HUD—Greensboro Hub

Greensboro Office

Asheville Building, 1500 Pinecroft Road, Suite 401, Greensboro, NC 27407-3838, (336) 547-4000, TTY Number: (336) 547-4054

Columbia Office

Strom Thurmond Federal Building, 13th Floor, 1835-45 Assembly Street, Columbia, SC 29201-2480, (803) 765-5592

HUD—Atlanta Hub

Atlanta Office

ATTN: Multifamily Housing, 12th Floor, 40 Marietta Street—Five Points Plaza, Atlanta, GA 30303-2806, (404) 331-5136, TTY Number: (404) 730-2654

San Juan Office

Edificio Administracion de Terrenos, 171 Carlos Chardon Avenue, Suite 301, San Juan, PR 00918-0903, (787) 766-5400, TTY Number: (787) 766-5909

Louisville Office

601 West Broadway, Room 110, Louisville, KY 40202, (502) 582-5251, TTY Number: (800) 648-6056

Knoxville Office

John J. Duncan Federal Building, 710 Locust Street, Third Floor, Knoxville, TN 37902-2526, (865) 545-4384, TTY Number: (865) 545-4559

Nashville Office

Suite 200, 235 Cumberland Bend, Nashville, TN 37228-1803, (615) 736-5600, TTY Number: (866) 503-0264

HUD—Jacksonville Hub

Jacksonville Office

Southern Bell Towers, 301 West Bay Street, Suite 2211, Jacksonville, FL 32202-5121, (904) 232-2627, TTY Number: (904) 232-3759

Birmingham Office

Medical Forum Building, 950 22nd St., North, Suite 900, Birmingham, AL 35203-5301, (205) 731-2617, TTY Number: (800) 548-2546

Jackson Office

Suite 910, Doctor A.H. McCoy Federal Building, 100 West Capitol Street, Jackson, MS 39269-1096, (601) 965-4757, TTY Number: (601) 965-4171

HUD—Chicago Hub

Chicago Office

Ralph H. Metcalfe Federal Building, 77 West Jackson Boulevard, Chicago, IL 60604-3507, (312) 353-5680, TTY Number: (312) 353-7143

Indianapolis Office

151 North Delaware Street, Suite 1200, Indianapolis, IN 46204-2526, (317) 226-6303, TTY Number: (800) 743-3333

HUD—Detroit Hub

Detroit Office

Patrick V. McNamara Federal Building, 477 Michigan Avenue, Suite 1700, Detroit, MI 48226-2592, (313) 226-7900, TTY Number: (313) 226-6899

HUD—Columbus Hub

Columbus Office

200 North High Street, 7th Floor, Columbus, OH 43215-2499, (614) 469-5737, TTY Number: (614) 469-6694

Cleveland Office

US Bank Centre, 1350 Euclid Avenue, Suite 500, Cleveland, OH 44115-1815, (216) 522-4058, TTY Number: (216) 522-2261

HUD—Minneapolis Hub

Minneapolis Office

920 Second Avenue South, Suite 1300, Minneapolis, MN 55402-4012, (612) 370-3000, TTY Number: (612) 370-3186

Milwaukee Office

Henry S. Reuss Federal Plaza, 310 West Wisconsin Avenue, Suite 1380, Milwaukee, WI 53203-2289, (414) 297-3214, TTY Number: (414) 297-1423

HUD—Ft. Worth Hub

Little Rock Office

Suite 900, Metropolitan Bank Building, 425 West Capitol Avenue, Little Rock, AR 72201-3488, (501) 324-5931, TTY Number: (501) 324-5931

New Orleans Office

Hale Boggs Federal Building, 500 Poydras Street, 9th Floor, New Orleans, LA 70130-3099, (504) 589-7201, TTY Number: (504) 589-7277

Ft. Worth Office

801 Cherry Street, P.O. Box 2905, Fort Worth, TX 76113-2905, (817) 978-5965, TTY Number: (817) 978-5595

Houston Office

1301 Fannin, Suite 2200, Houston, TX 77002, (713) 718-3199, TTY Number: (713) 718-3289

San Antonio Office

106 South St. Mary's Street, Suite 405, San Antonio, TX 78205, (210) 475-6806, TTY Number: (210) 475-6885

HUD—Great Plains

Des Moines Office

Room 239, Federal Building, 210 Walnut Street, Des Moines, IA 50309-2155, (515) 284-4512, TTY Number: (515) 284-4728

Kansas City Office

Room 200, Gateway Tower II, 400 State Avenue, 5th Floor, Kansas City, KS 66101-2406, (913) 551-5644, TTY Number: (913) 551-5416

Omaha Office

Executive Tower Centre, 10909 Mill Valley Road, Suite 100, Omaha, NE 68154-3955, (402) 492-3100, TTY Number: (402) 492-3183

St. Louis Office

Third Floor, Robert A. Young Federal Building, 1222 Spruce Street, Room 3.207, St. Louis, MO 63103-2836, (314) 539-6583, TTY Number: (314) 539-6331

Oklahoma City Office

301 NW. 6th Street, Suite 200, Oklahoma City, OK 73102, (405) 609-8509, TTY Number: 405-609-8480

HUD—Denver Hub

Denver Office

23rd Floor, 1670 Broadway, Denver, CO 80202, (303) 672-5440, TTY Number: (303) 672-5022

HUD—San Francisco Hub

Phoenix Office

One North Central, Suite 600, Phoenix, AZ 85004, (602) 379-7100, TTY Number: (602) 379-7181

San Francisco Office

600 Harrison Street, San Francisco, CA 94107, (415) 489-6400, TTY Number: (415) 436-6594

Honolulu Office

500 Ala Moana Boulevard, Suite 3A, Honolulu, HI 96813, (808) 522-8175, TTY Number: (808) 522-8193

HUD—Los Angeles Hub

Los Angeles Office

611 West 6th Street, Suite 800, Los Angeles, CA 90017-3106, (213) 894-8000, TTY Number: (213) 894-8133

HUD—Seattle Hub

Portland Office

400 Southwest Sixth Avenue, Suite 700, Portland, OR 97204-1632, (503) 326-2561, TTY Number: (503) 326-3656

Anchorage Office

3000 C Street, Suite 401, Anchorage, AK 99503, (907) 677-9880, TTY Number: (907) 677-9825

Seattle Office

909 First Avenue, Suite 200, Seattle, WA 98104-5254, (206) 220-5101, TTY Number: (206) 220-5254

BILLING CODE 4210-27-P

[FR Doc. 04-26115 Filed 11-24-04; 8:45 am]

BILLING CODE 4210-27-C